DEPARTMENT OF HEALTH AND HUMAN SERVICES

National Institutes of Health

Proposed Collection; Comment Request; Outcome Evaluation of the Fogarty International Center (FIC) AIDS International Training and Research Program (AITRP)

SUMMARY: In compliance with the requirement of Section 3506(c)(2)(A) of the Paperwork Reduction Act of 1995, for opportunity for public comment on proposed data collection projects, the Fogarty International Center (FIC), the National Institutes of Health (NIH), will publish periodic summaries of proposed projects to be submitted to the Office of Management and Budget (OMB) for review and approval.

Proposed Collection: Title: Outcome Evaluation of the FIC AIDS International Training and Research Program (AITRP). Type of Information Collection Request: New. Need and Use of Information Collection: This study will assess the outputs, outcomes and impacts of the AIDS International Training and Research Program (AITRP). The findings will provide valuable information concerning: (1) The research capacity development, collaboration, public health, and public policy outputs, outcomes, and impacts of AITRP at the program level and country level; (2) management and policy implications for the AITRP program based on trainee responses. Frequency of Response: Once. Affected Public: none. Type of Respondents: Trainees involved in the AITRP program. There are no Capital Costs to report. There are no Operating or Maintenance Costs to report.

Type of respondents | Estimated number of respondents | Estimated number of responses per respondent | Average burden hours per response | Estimated total annual burden hours requested
Trainees | 300 | 1 | 1 | 300
Total | 300 | 300

Type of respondents | Estimated number of respondents | Frequency of response | Average hourly wage rate | Respondent cost
Trainees | 300 | 1 | $5.00/hr | $1500
Total Cost |  |  |  | $1500

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Linda Kupfer, Fogarty International Center, National Institutes of Health, 16 Center Drive, Building 16, Bethesda, MD 20892-6705 or call non-toll-free number 301-496-3288 or E-mail your request, including your address to: Kupferl@mail.nih.gov.

Comments Due Date: Comments regarding this information collection are best assured of having their full effect if received within 60-days of the date of this publication.

Dated: November 5, 2004.
Richard Miller,
Executive Officer, FIC, National Institutes of Health.

[FR Doc. 04-25281 Filed 11-12-04; 8:45 am]

BILLING CODE 4140-01-P